DEPARTMENT OF COMMERCE

National Oceanic and Atmospheric Administration

RIN 0648-XF393

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Groundfish Committee to consider actions affecting New England fisheries in the exclusive economic zone (EEZ). Recommendations from this group will be brought to the full Council for formal consideration and action, if appropriate.

DATES: This meeting will be held on Thursday, June 15, 2017 at 9 a.m.

ADDRESSES: The meeting will be held at the Sheraton Harborside, 250 Market Street, Portsmouth, NH 03801; phone: (603) 431-2300.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Groundfish Committee plans to discuss Amendment 23/Groundfish Monitoring, receive reports from the Groundfish Plan Development Team (PDT) and Groundfish Advisory Panel (GAP). They will discuss public scoping comments and make recommendations to the Council on the scope, purpose and need, and range of alternatives for Amendment 23. They also plan to review the 2017 Council Priorities with a discussion of Atlantic halibut management, receive reports from the PDT and GAP and make recommendations to the Council. They will also discuss a possible reclassification of windowpane flounder stocks with a report from the PDT and GAP and make recommendations to the Council. The committee will also review Recreational management measures process with reports from the PDT and Recreational Advisory Panel (RAP) and make recommendations to the Council. The committee will also review a draft Council letter (inclusive of Council staff and RAP input) regarding feedback on the Marine Recreational Information Program (MRIP) Strategic Plan. The committee will consider comments on the Interim Final Rule for 2017 and 2018 Sector Operations Plans, including whether additional measures or restrictions should be recommended for Sector IX as a result of misreporting by sector vessels. Other business will be discussed as necessary.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date. This meeting will be recorded. Consistent with 16 U.S.C. 1852, a copy of the recording is available upon request.

Authority: 16 U.S.C. 1801 et seq.

Dated: May 19, 2017.
Tracey L. Thompson,
Acting Deputy Director, Office of Sustainable Fisheries, National Marine Fisheries Service.

[FR Doc. 2017-10610 Filed 5-23-17; 8:45 am]

BILLING CODE 3510-22-P